SECURITIES AND EXCHANGE COMMISSION

[SEC File No. 270-660, OMB Control No. 3235-0722]

Submission for OMB Review; Comment Request; Extension: Form 1-U

Upon Written Request Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) has submitted to the Office of Management and Budget this request for extension of the previously approved collection of information discussed below.

Form 1-U (17 CFR 239.93) is used to file current event reports by Tier 2 issuers under Regulation A, an exemption from registration under the Securities Act of 1933 (15 U.S.C 77a et seq.). Form 1-U provides information to the public within four business days of fundamental changes in the nature of the issuer's business and other significant events. We estimate that approximately 1,502 issuers file Form 1-U annually. We estimate that Form 1-U takes approximately 5.0 hours to prepare. We estimate that 85% of the 5.0 hours per response is prepared by the company for a total annual burden of 6,384 hours (4.25 hours per response × 1,502 responses).

An agency may not conduct or sponsor, and a person is not required to respond to, a collection of information unless it displays a currently valid control number.

Public Comment Instructions: The 30-day public comment period for this information collection request opens on December 11, 2024 and closes at the end of the day on January 10, 2025. The public may view the full information request and submit comments at https://www.reginfo.gov/public/do/PRAViewICR?ref_nbr=202412-3235-005 or email comments to MBX.OMB.OIRA.SEC_desk_officer@omb.eop.gov.

Dated: December 5, 2024.
Sherry R. Haywood,
Assistant Secretary.

[FR Doc. 2024-29023 Filed 12-10-24; 8:45 am]

BILLING CODE 8011-01-P